DEPARTMENT OF LABOR

Employment and Training Administration

[TA-W-82,718; TA-W-82,718A]

Schweitzer-Mauduit International, Inc., Paper Machine #21, Ancram, New York; Schweitzer-Mauduit International, Inc., Columbia Mill, Lee, Massachusetts; Amended Certification Regarding Eligibility To Apply for Worker Adjustment Assistance

In accordance with Section 223 of the Trade Act of 1974, as amended (“Act”), 19 U.S.C. 2273, the Department of Labor issued a Certification of Eligibility to Apply for Worker Adjustment Assistance on May 30, 2013, applicable to workers of Schweitzer-Mauduit International, Inc., Paper Machine #21, Ancram, New York. The workers are engaged in activities related to the production of porous plug warp and long fiber papers for the cigarette industry. The Department's notice of determination was published in the Federal Register on June 21, 2013 (78 FR 37588).

At the request of a company official, the Department reviewed the certification for workers of the subject firm. New information from the company revealed that workers of Schweitzer-Mauduit International, Inc., Columbia Mill, Lee, Massachusetts are employed at a warehouse that stores the porous plug warp and long fiber papers for the cigarette industry produced at Schweitzer-Mauduit International, Inc., Paper Machine #21, Ancram, New York (TA-W-82,718). Although the workers are included on the payroll for Schweitzer-Mauduit International, Inc., Paper Machine #21, Ancram, New York (TA-W-82,718), they work and live in Massachusetts.

The intent of the Department's certification is to include all workers of the subject firm who were adversely affected by increased imports.

Based on these findings, the Department is amending this certification to include workers working at Schweitzer-Mauduit International, Inc., Columbia Mill, Lee, Massachusetts (TA-W-82,718A).

The amended notice applicable to TA-W-82,718 is hereby issued as follows:

All workers of Schweitzer-Mauduit International, Inc., Paper Machine #21, Ancram, New York (TA-W-82,718) and of Schweitzer-Mauduit International, Inc., Columbia Mill, Lee, Massachusetts (TA-W-82,718A), who became totally or partially separated from employment on or after May 1, 2012 through May 30, 2015, and all workers in the group threatened with total or partial separation from employment on May 30, 2013 through May 30, 2015, are eligible to apply for adjustment assistance under Chapter 2 of Title II of the Trade Act of 1974, as amended.

Signed in Washington, DC, this 19th day of November 2013.
Michael W. Jaffe,
Certifying Officer, Office of Trade Adjustment Assistance.

[FR Doc. 2013-29245 Filed 12-6-13; 8:45 am]

BILLING CODE 4510-FN-P